DEPARTMENT OF COMMERCE

International Trade Administration

[A-580-876, A-489-822]

Welded Line Pipe From the Republic of Korea and the Republic of Turkey: Postponement of Preliminary Determinations of Antidumping Duty Investigations

AGENCY: Enforcement and Compliance, International Trade Administration, Department of Commerce.

FOR FURTHER INFORMATION CONTACT: David Goldberger (Korea) (202) 482-4136, or Alice Maldonado (Turkey) (202) 482-4682; AD/CVD Operations, Enforcement and Compliance, International Trade Administration, U.S. Department of Commerce, 14th Street and Constitution Avenue NW., Washington, DC 20230.

SUPPLEMENTARY INFORMATION:

Postponement of Preliminary Determinations

On November 5, 2014, the Department of Commerce (the Department) initiated antidumping duty investigations of imports of welded line pipe from the Republic of Korea (Korea) and the Republic of Turkey (Turkey).¹ The notice of initiation stated that we would issue our preliminary determinations no later than 140 days after the date of initiation. Currently, the preliminary determinations in these investigations are due on March 25, 2015.

¹ See Welded Line Pipe From the Republic of Korea and the Republic of Turkey: Initiation of Less-Than-Fair-Value Investigations, 79 FR 68213 (November 14, 2014).

On February 24, 2015, American Cast Iron Pipe Company; Energex Tube, a division of JMC Steel Group; Northwest Pipe Company; Stupp Corporation, a division of Stupp Bros., Inc.; Tex-Tube Company; TMK IPSCO; and Welspun Tubular LLC USA, seven out of the eight U.S. producers on whose behalf the petitions in these cases were filed (hereafter, the petitioners) made timely requests, pursuant to section 733(c)(1)(A) of the Tariff Act of 1930, as amended (the Act), and 19 CFR 351.205(e), for a 50-day postponement of the preliminary determinations in the investigations.² The petitioners stated that a postponement of the preliminary determinations in both welded line pipe investigations is necessary because the Department has either initiated, or is currently considering whether to initiate, investigations of sales below the cost of production, and, thus, the Department will require additional time for analysis and data collection prior to the preliminary determinations.

² See the petitioners' letters to the Department dated February 24, 2015.

Under section 733(c)(1)(A) of the Act, if a petitioner makes a timely request for an extension of the period within which the preliminary determination must be made under subsection (b)(1), then the Department may postpone making the preliminary determination under subsection (b)(1) until not later than the 190th day after the date on which the administering authority initiated the investigation. Therefore, for the reasons stated above, and because there are no compelling reasons to deny the petitioners' requests, the Department is postponing the preliminary determinations in these investigations until May 14, 2015, which is 190 days from the date on which the Department initiated these investigations.

The deadline for the final determinations will continue to be 75 days after the date of the preliminary determinations, unless extended.

This notice is issued and published pursuant to section 733(c)(2) of the Act and 19 CFR 351.205(f)(1).

Dated: March 3, 2015.
Paul Piquado,
Assistant Secretary for Enforcement and Compliance.

[FR Doc. 2015-05488 Filed 3-6-15; 8:45 am]

BILLING CODE 3510-DS-P